DEPARTMENT OF ENERGY

Federal Energy Regulatory Commission

Combined Notice of Filings #1

Take notice that the Commission received the following electric rate filings:

Docket Numbers: ER11-4050-002.

Applicants: Cogentrix of Alamosa, LLC.

Description: Notice of Non-Material Change in Status of Cogentrix of Alamosa, LLC.

Filed Date: 9/4/13.

Accession Number: 20130904-5196.

Comments Due: 5 p.m. ET 9/25/13.

Docket Numbers: ER13-1980-001.

Applicants: Golden Spread Electric Cooperative, Inc.

Description: Revised Wholesale Power Contracts Filing to be effective 9/13/2013.

Filed Date: 9/5/13.

Accession Number: 20130905-5033.

Comments Due: 5 p.m. ET 9/26/13.

Docket Numbers: ER13-2102-001.

Applicants: ReEnergy Black River LLC.

Description: ReEnergy Black River Amended Notice of Succession and MBR Tariff Revisions to be effective 9/5/2013.

Filed Date: 9/4/13.

Accession Number: 20130904-5165.

Comments Due: 5 p.m. ET 9/25/13.

Docket Numbers: ER13-2320-000.

Applicants: ReEnergy Black River LLC.

Description: Notice of Cancellation of Market-Based Rate Tariff for Black River Generation to be effective 9/5/2013.

Filed Date: 9/4/13.

Accession Number: 20130904-5168.

Comments Due: 5 p.m. ET 9/25/13.

Docket Numbers: ER13-2321-000.

Applicants: Midcontinent Independent System Operator, Inc.

Description: 2013-09-04 Cost Deferral for non-Entergy Entities to be effective 11/3/2013.

Filed Date: 9/4/13.

Accession Number: 20130904-5188.

Comments Due: 5 p.m. ET 9/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2013.
Nathaniel J. Davis, Sr.,
Deputy Secretary.

[FR Doc. 2013-22197 Filed 9-11-13; 8:45 am].

BILLING CODE 6717-01-P